DEPARTMENT OF DEFENSE

Department of the Army

Western Hemisphere Institute for Security Cooperation Board of Visitors; Meeting

AGENCY: Department of the Army, DoD.

ACTION: Notice of open meeting.

SUMMARY: This notice sets forth the schedule and summary agenda for the inaugural meeting of the Western Hemisphere Institute for Security Cooperation (WHINSEC) Board of Visitors (BoV). Notice of this meeting is required under the Federal Advisory Committee Act (Pub. L. 92-463). This board was chartered on February 1, 2002, in compliance with the requirements set forth in 10 U.S.C. 2166.

Date: December 12, 2002.

Time: 9 a.m. to 5 p.m.

Location: Pratt Hall, Building 35, 7011 Morrison Ave., Fort Benning, GA 31905.

Proposed Agenda: The WHINSEC BoV will approve its by-laws, establish its 2003 schedule and receive sub-committee and liaison reports of specific WHINSEC operations, activities and curriculum for compliance with the authorizing legislation—specifically the curriculum and the human rights mandatory training programs—in preparation of its annual report.

FOR FURTHER INFORMATION CONTACT: Ken LaPlante, Core Processes, Inc, Army G-3 (Room 2D337), 400 Army Pentagon, Washington, DC 20310, telephone (703) 692-7419 or LTC Andres Toro at (703) 692-7421.

SUPPLEMENTARY INFORMATION: The meeting is open to the public. There will be time, specified, for public comments by individuals and organizations at the end of the meeting on December 12, 2002. Public comment and presentations will be limited to two minutes each and must be provided in writing and received before Wednesday, December 4, 2002. Mail written presentations and requests to register to attend the public sessions to: LTC Andres Toro, DAM-SSR (Rm 2D337), 400 Army Pentagon, Washington, DC 20310-0400. Public seating is limited, and is available on a first come, first served basis.

Dated: November 8, 2002.
John C. Speedy III,
SES, Designated Federal Officer, WHINSEC BoV.

[FR Doc. 02-29586 Filed 11-21-02; 8:45 am]

BILLING CODE 3710-08-M